DEPARTMENT OF LABOR

Office of Disability Employment Policy

[Agency Docket Number: DOL-2020-0006]

RIN 1230-ZA00

Request for Information on Proposed Transfer of Ticket to Work Program From the Social Security Administration to the U.S. Department of Labor

AGENCY: Office of Disability Employment Policy, U.S. Department of Labor.

ACTION: Request for information.

SUMMARY: The Social Security Administration's (SSA) Ticket to Work and Self-Sufficiency Program (Ticket program) is intended to assist adult disability beneficiaries in becoming employed, yet relatively few disability beneficiaries have successfully participated in the program. In order to strengthen the Ticket program, the President's Budget for Fiscal Year 2021 includes a legislative proposal to improve program structure and coordination and transfer administration of the program to the Department of Labor (DOL), in order to better integrate the program into the public workforce system and better serve disability beneficiaries who want to work. This request for information (RFI) seeks public input regarding how the proposed changes to the Ticket program would impact disability beneficiaries who want to work and the systems that currently serve their employment and related needs, and to identify critical considerations for designing and implementing an improved program.

DATES: Comments must be received by November 13, 2020.

ADDRESSES: You may submit comments via the internet. Please visit the Federal eRulemaking portal at http://www.regulations.gov. Use the “Search” function to find docket number DOL-2020-0006. The system will issue a tracking number to confirm your submission. You will not be able to view your comment immediately because we must post each comment manually. It may take up to a week for your comment to be viewable.

Caution: In your comments, you should be careful to include only the information that you wish to make publicly available. We strongly urge you not to include in your comments any personal information, such as Social Security numbers or medical information.

FOR FURTHER INFORMATION CONTACT: Jennifer Sheehy, Deputy Assistant Secretary, Office of Disability Employment Policy, U.S. Department of Labor, 200 Constitution Avenue NW,S-1303, Washington, DC 20210, (202) 693-7880, or visit https://www.dol.gov/dol/contact/contactphonecallcenter.htm (TTY), for information about this notice.

SUPPLEMENTARY INFORMATION:

Purpose

In order to streamline and strengthen employment services for Social Security Disability Insurance (SSDI) beneficiaries and Supplemental Security Income (SSI) recipients seeking employment, the President's Budget for Fiscal Year 2021 includes a legislative proposal to transfer the Ticket program to DOL given its capacity to promote innovative workforce development and disability employment. Better integrating services for SSDI beneficiaries and SSI recipients into the core workforce system should result in a more effective and efficient system to support them in achieving and sustaining employment. A key challenge in transferring the program to DOL will be to reduce program complexity and overall administrative burden, rather than to simply recreate complexity or transfer the burden to other entities. Given the complexity of the current program and the significance of the proposed changes, public input is necessary to help ensure the success of the reformed program.

This RFI offers interested parties—including state and local governments, nonprofit and community-based organizations, philanthropic organizations, research experts, employers, health care providers, private disability insurance providers, vocational rehabilitation specialists, and members of the public—the opportunity to inform the development of a redesigned Ticket program aimed at increasing the employment and labor force participation of SSDI beneficiaries and SSI recipients.

Further Information

SSA's Ticket program is intended to assist adult disability beneficiaries in achieving and sustaining employment.¹ Under the Ticket program, SSA notifies beneficiaries of their eligibility to participate in the program, which allows them to obtain services from SSA-approved public or private providers, referred to as Employment Networks (EN), or from traditional state Vocational Rehabilitation (VR) agencies.

¹ The Ticket to Work and Work Incentives Improvement Act of 1999. Public Law 106-170, 101, 113 Stat. 1860, 1863-73 (codified as amended at 42 U.S.C. 1320b-19).

The Ticket program has helped thousands of disability beneficiaries return to work since it was established in 1999. Yet, despite the availability of the program, significant numbers of beneficiaries have not achieved levels of sustained employment that result in economic self-sufficiency and reduced reliance on disability benefits. Despite improvements over the years, the Ticket program faces fundamental challenges in attempting to meet its objectives. First, the program falls outside SSA's core mission of administering the Old Age, Survivors, and Disability Insurance (OASDI) and the SSI programs. Second, the program duplicates administrative structures and services where robust state and local workforce systems already exist. Finally, while the program is designed to promote beneficiary choice in accessing employment services and to incentivize providers by paying for successful individual outcomes, these features entail significant administrative burden for beneficiaries and service providers.

As designed, the Ticket program is largely separate from the broader workforce system. In contrast to when the program was created, the workforce system now provides similar services and is directed by the Workforce Innovation and Opportunity Act (WIOA) to prioritize services for recipients of public assistance and low-income individuals, including persons with disabilities, and to ensure accessibility for all persons. In addition, the milestone/outcome payment structure currently used in the Ticket program is complicated and delays reimbursement to service providers for many months, which may limit provider participation.

The rationale for transferring the Ticket program to DOL is to create a more integrated, effective, and efficient system for supporting disability beneficiaries in obtaining and sustaining employment. The ultimate goals of program redesign include the following:

• Increasing the number of disability beneficiaries who participate in the program, succeed in employment, and achieve economic mobility, while decreasing reliance on disability benefits and other forms of public assistance;

• Improving the experience of individual program participants;

• Reducing program fragmentation and duplication;

• Establishing national uniformity in essential program features while allowing opportunity for local innovation;

• Restructuring funding mechanisms and performance metrics to align with WIOA;

• Providing financial incentives to states in order to reward performance;

• Better integrating services for disability beneficiaries into the broader workforce system; and

• Leveraging DOL's expertise and capacity in promoting innovative workforce development and employment of persons with disabilities.

Although DOL and SSA have attempted to increase workforce system participation in the Ticket program, the workforce system historically has not served large numbers of SSA beneficiaries.² In order to drive changes on the scale necessary to improve economic mobility for disability beneficiaries, the President's Budget proposes to significantly reform the Ticket program through transferring administration of the program and redesigning key elements. Specifically, the proposal is to transfer the administration of the Ticket program to DOL's Employment and Training Administration (ETA). This would empower ETA's American Job Center (AJC) network to provide Ticket services in concert with other workforce programs. It would also simplify Ticket program rules, including the payment model used to pay ENs and other providers for services, in order to improve the structure and outcomes through a performance-based funding allocation. Program redesign would include aligning Ticket performance measures with WIOA core performance measures, improving the capacity of state public workforce systems to serve persons with disabilities, and changing the payment structure from individual vouchers to one in which states receive base administrative funding based on a formula and additional payments that reflect level of performance. State and local workforce entities would receive funding and technical assistance from ETA in order to better serve disability beneficiaries, with a portion of Ticket funding reserved for rewarding strong performance and program innovation. States and localities would be allowed greater flexibility in tailoring services to fit local circumstances. The redesigned program would retain key features of the current program, such as benefits counseling and suspension of SSA medical Continuing Disability Reviews (CDRs) while program participants pursue employment.³

² After several years of sharing information on the Ticket program with the workforce system, the commitment to increase the number of workforce ENs resulted in multiple Training and Employment Notices (TENs), beginning in 2012 with TEN 14-12, Receiving Ticket to Work Payment as an Employment Network, which explained the Payment Agreement process. This was updated in 2014 as TEN 02-14, Receiving Ticket to Work Payment as an Employment Network, which explained a new process for public workforce entities to become ENs. In 2018, DOL published TEN 16-18, New Administrative Processes for Public Workforce Employment Networks under the Social Security Administration's Ticket to Work Program, to support DOL's goal of expanding the capacity of the American Job Center network to serve persons receiving disability benefits. The 2018 TEN notified the workforce system regarding the Ticket program's new administrative processes for public workforce ENs and alternative EN models.

³ Medical CDRs are periodic reviews of an individual's medical impairment(s) to determine continuing eligibility for SSI and/or SSDI.

In close coordination with SSA and ETA, DOL's Office of Disability Employment Policy (ODEP) will provide policy analysis and guidance to support the transfer and improvement of the program.

Request for Information

Through this RFI, we are soliciting feedback from interested and affected parties on the potential benefits and challenges in transferring the Ticket program to DOL and serving program participants through the public workforce systems, in order to enable them to increase employment and earnings and maximize self-sufficiency. We are also interested in evidence supporting or challenging the assumptions underlying this proposal. Responses to this RFI will inform decisions regarding the development, design, and implementation of the redesigned program. As such, responses supported by substantial evidence and careful reasoning will be afforded greatest weight. This RFI notice is for internal planning purposes only and should not be construed as a solicitation or as an obligation on the part of DOL or any participating federal agencies.

We ask respondents to address the following questions in the context of the preceding discussion in this document. Respondents do not need to address every question and should focus on those that relate to their expertise or perspective. To the extent possible, please clearly indicate the question(s) addressed in your response. We ask that each respondent include the name and street address of his or her institution or affiliation, if any, and the name, title, street address, email address, and telephone number of a contact person for his or her institution or affiliation, if any.

Questions

Workforce System Capacity

1. How might state workforce systems use new Ticket program funding to increase capacity to effectively serve SSA disability beneficiaries, given that the number of SSA disability beneficiaries who will seek services in a particular locality is unknown?

2. How might state workforce systems integrate the provision of the Ticket program with other existing WIOA services? What opportunities and challenges will arise in doing so?

3. How could DOL's ETA help prepare state workforce systems for a potentially significant increase in SSA disability beneficiaries seeking services?

4. What ongoing federal support would be most helpful to state workforce systems as they administer the Ticket program?

5. How could state workforce systems provide quality remote services, when necessary, to serve SSA disability beneficiaries regionally or nationwide?

6. What are key considerations in transferring SSA's Work Incentives Planning and Assistance (WIPA) services to state workforce agencies?

Participant Experience and Outcomes

7. What specific program changes could improve experiences and outcomes for persons accessing the redesigned Ticket program services through the workforce system?

8. What is the capacity of the workforce system to effectively serve young adults or transition-age youth (i.e., ages 14-18) under a redesigned Ticket program? What capacity and coordination issues would arise in serving transition-age youth?

Employment Networks and Vocational Rehabilitation

9. What lessons can be taken from current EN models (e.g., community-based, nonprofit, workforce ENs) or collaborative AJC program models that can inform the new Ticket program?

10. How can VR entities partner with state workforce systems to support SSA disability beneficiaries in the redesigned Ticket program?

Funding Structure, Performance Metrics and Performance-Based Payments

11. What payment structures and which WIOA performance indicators (if any) would encourage state workforce systems to provide robust employment and training services to persons with disabilities, leading to job placement and ongoing support to ensure job retention?

12. Which of the WIOA performance indicators (if any) could serve as potential interim measures to trigger partial performance-based payments?

13. What are appropriate intervals (medium- and long-term) for performance-based payments?

14. How would workforce entities and DOL track and measure program success? Would workforce entities require access to new administrative data sources?

General

15. What challenges within the current Ticket program would potentially remain in a redesigned program administered by state workforce entities, and what could DOL do to address or mitigate them?

16. What strengths of the current Ticket program contribute to the success of individual Ticket holders, and how could these be preserved in the redesigned program?

17. Are there current or recent state examples of integrated systems that offer lessons for successful implementation of the redesigned Ticket program?

18. What are the implications of the current COVID-19 pandemic for redesigning the Ticket program at this time, such as employer demand, workforce system capacity, and remote services?

19. Are there additional considerations in transferring the Ticket program from SSA to DOL?

Signed at Washington, DC, this __th day of September, 2020.
Jennifer Sheehy,
Deputy Assistant Secretary for Disability Employment Policy.

[FR Doc. 2020-21533 Filed 9-28-20; 8:45 am]

BILLING CODE 4510-FK-P